ENVIRONMENTAL PROTECTION AGENCY

[FRL-6586-6]

Draft General NPDES Permit for Seafood Processors in Alaska in Waters of the United States; General NPDES Permit No. AK-G52-0000

AGENCY: Environmental Protection Agency, Region 10.

ACTION: Notice; correction.

SUMMARY: The Environmental Protection Agency, Region 10, published a document in the Federal Register of April 21, 2000, concerning a notice of a draft general NPDES permit. The document contained an incorrect number for the total allowable residues of offal to be discharged.

FOR FURTHER INFORMATION CONTACT: Florence Carroll, 206-553-1760.

Correction

In the Federal Register issue of April 21, 2000, in FR Doc. 00-10037, on page 21432, in the third column, correct the last sentence in the third paragraph of the SUMMARY section to read:

The total allowable residues of offal for permittees covered under the proposed permit must not exceed ten million pounds per year (based on deposition modeling using EPA's Water Quality Analysis Simulation Program).

Dated: April 21, 2000.
Randall F. Smith,
Director, Office of Water.

[FR Doc. 00-10646 Filed 4-27-00; 8:45 am]

BILLING CODE 6213-01-P